DEPARTMENT OF COMMERCE

International Trade Administration

[A-583-854]

Certain Steel Nails From Taiwan: Final Results of Antidumping Duty Administrative Review, Final Determination of No Shipments, and Final Determination of No Reviewable Sales; 2021-2022

AGENCY: Enforcement and Compliance, International Trade Administration, U.S. Department of Commerce.

SUMMARY: The U.S. Department of Commerce (Commerce) determines that certain steel nails from Taiwan were sold in the United States at less than normal value during the period of review (POR), July 1, 2021, through June 30, 2022. Commerce also determines that certain companies under review made no shipments of certain steel nails from Taiwan or had no reviewable sales during the POR.

DATES: Applicable February 1, 2024.

FOR FURTHER INFORMATION CONTACT: Faris Montgomery, AD/CVD Operations, Office VIII, Enforcement and Compliance, International Trade Administration, Department of Commerce, 1401 Constitution Avenue NW, Washington, DC 20230; telephone: (202) 482-1537.

SUPPLEMENTARY INFORMATION:

Background

On August 3, 2023, Commerce published the preliminary results in the 2021-2022 administrative review of the antidumping duty order on certain steel nails from Taiwan and invited interested parties to comment.¹ The review covers 140 companies, including three mandatory respondents, four companies claiming no shipments of subject merchandise during the POR, three companies claiming no reviewable sales during the POR, and 130 companies not selected for individual examination.² A summary of the events that occurred since publication of the Preliminary Results, as well as a full discussion of the issues raised by parties for these final results, are included in the Issues and Decision Memorandum.³ Commerce conducted this administrative review in accordance with section 751(a)(1)(B) of the Tariff Act of 1930, as amended (the Act).

¹ See Certain Steel Nails from Taiwan: Preliminary Results of Antidumping Duty Administrative Review, Preliminary Determination of No Shipments, Preliminary Determination of No Reviewable Sales, and Partial Rescission of Review; 2021-2022, 88 FR 51291 (August 3, 2023) (Preliminary Results), and accompanying Preliminary Decision Memorandum.

² Id. The mandatory respondents in this review are: Your Standing International, Inc. (YSI); Shang Jeng Nail Co., Ltd. (Shang Jeng); and World Kun Company Limited (World Kun). We note that Concord International Engineering & Trading Co., Ltd. was selected as a mandatory respondent, but claimed to have no reviewable sales in its questionnaire responses.

³ See Memorandum, “Issues and Decision Memorandum for the Final Results of the Antidumping Duty Administrative Review of Certain Steel Nails from Taiwan; 2021-2022,” dated concurrently with, and hereby adopted by, this notice (Issues and Decision Memorandum).

Scope of the Order ⁴

⁴ See Certain Steel Nails from the Republic of Korea, Malaysia, the Sultanate of Oman, Taiwan, and the Socialist Republic of Vietnam: Antidumping Duty Orders, 80 FR 39994 (July 13, 2015) (Order).

The merchandise covered by this Order are certain steel nails from Taiwan. The certain steel nails subject to the Order are currently classifiable under Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this Order also may be classified under HTSUS subheadings 7907.00.60.00, 8206.00.00.00 or other HTSUS subheadings. While the HTSUS subheadings are provided for convenience and customs purposes, the written description of the scope of this Order is dispositive. For a complete description of the scope of the Order, see the Issues and Decision Memorandum.

Analysis of Comments Received

All issues raised in parties' case and rebuttal briefs are addressed in the Issues and Decision Memorandum and are listed in appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our findings at verification, Commerce made certain changes to the margin calculations for YSI. The Issues and Decision Memorandum contains descriptions of these changes.

Final Determination of No Shipments

In the Preliminary Results, Commerce determined that the following companies had no shipments of subject merchandise during the POR: Astrotech Steels Private Limited (Astrotech); Region Systems Sdn. Bhd (Region Systems); Region Industries Co., Ltd. (Region Industries); and Region International Co., Ltd (Region International).⁵ As we have not received any information to contradict this determination, consistent with our practice, we will instruct U.S. Customs and Border Protection (CBP) to liquidate any existing entries of subject merchandise produced by these four companies, but exported by other parties, at the all-others rate if there is no rate for the intermediate company(ies) involved in the transaction.

⁵ See Preliminary Results, 88 FR at 51292.

Final Determination of No Reviewable Sales

In the Preliminary Results, Commerce determined that resellers Create Trading Co., Ltd. (Create Trading), Wiresmith Industrial Co., Ltd. (Wiresmith), and Concord International Engineering & Trading Co., Ltd. (Concord International) had no reviewable sales of subject merchandise during the POR.⁶ As we find that there is no evidence on the record of this review which warrants a different determination, we continue to find that these three companies had no reviewable sales during the POR. As discussed further in the “Assessment Rates” section below, we will instruct CBP to liquidate any existing entries of subject merchandise produced by Create Trading, Wiresmith, and Concord International's respective unaffiliated suppliers and attributed to Create Trading, Wiresmith, and Concord International at the rate applicable to the unaffiliated producers, or the all-others rate if there is no rate for the unaffiliated producers.⁷

⁶ Id.

⁷ See Antidumping and Countervailing Duty Proceedings: Assessment of Antidumping Duties, 68 FR 23954, 23954 (May 6, 2003) (Assessment of Antidumping Duties); see also Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011).

Facts Available

Pursuant to section 776(a)(1) and 776(a)(2)(A)-(C) of the Act, we are relying upon facts otherwise available to assign estimated dumping margins to mandatory respondents Shang Jeng and World Kun because both companies were unresponsive to our requests for information, and thereby withheld necessary information that was requested by Commerce, failed to provide the information requested by the specified deadlines in the form and manner requested, and significantly impeded the conduct of the review. Further, Commerce finds that Shang Jeng and World Kun failed to cooperate by not acting to the best of their ability to comply with requests for information and, thus, Commerce is applying an adverse inference in selecting among the facts available, in accordance with section 776(b) of the Act. As adverse facts available, we are assigning these companies a rate of 78.17 percent, which is the highest rate applied in any segment of this proceeding.

Rate for Non-Selected Companies

As we stated in the Preliminary Results, the weighted-average dumping margin for YSI is not zero, de minimis, or based entirely on facts otherwise available, whereas other selected mandatory respondents' weighted-average dumping margins are based entirely on facts available. Commerce, therefore, assigned a weighted-average dumping margin to the non-examined companies that is equal to the weighted-average dumping margin for YSI in accordance with its practice. This determination is unchanged for the final results.

Final Results of Review

We have determined the following dumping margins for the firms listed below for the period July 1, 2021, through June 30, 2022:

Exporter/producer | Weighted-average dumping margin (percent)
Your Standing International, Inc | 26.28
Shang Jeng Nail Co., Ltd | 78.17
World Kun Company Limited | 78.17
Companies under Review Not Selected for Individual Examination ⁸ | 26.28

Disclosure

⁸ See appendix II for a list of these companies.

We intend to disclose the calculations performed for YSI within five days of the date of publication of this notice to parties in this proceeding, in accordance with 19 CFR 351.224(b).

Assessment Rates

Commerce has determined, and CBP shall assess, antidumping duties on all appropriate entries in this review, in accordance with section 751(a)(2)(C) of the Act and 19 CFR 351.212(b). Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Pursuant to 19 CFR 351.212(b)(1), because YSI's weighted-average dumping margin is not zero or de minimis within the meaning of 19 CFR 351.106(c)(1), we calculated importer-specific antidumping duty assessment rates on the basis of the ratio of the total amount of dumping calculated for each importer's examined sales to the total entered value of those sales.⁹ Where we do not have entered values for all U.S. sales to a particular importer, we calculated an importer-specific, per-unit assessment rate on the basis of the ratio of the total amount of dumping calculated for the importer's examined sales to the total quantity of those sales. To determine whether an importer-specific, per-unit assessment rate is de minimis, in accordance with 19 CFR 351.106(c)(2), we also will calculate an importer-specific ad valorem ratio based on estimated entered values. Where an importer-specific assessment rate is zero or de minimis, we intend to instruct CBP to liquidate appropriate entries without regard to antidumping duties.¹⁰

⁹ See 19 CFR 351.212(b)(1).

¹⁰ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by an individually examined respondent for which it did not know its merchandise was destined for the United States, we intend to instruct CBP to liquidate such entries at the all-others rate if there is no rate for the intermediate company(ies) involved in the transaction.¹¹

¹¹ See Assessment of Antidumping Duties, 68 FR at 23954.

In addition, because we found no shipments of subject merchandise for Astrotech, Region Systems, Region Industries, and Region International in the final results, any suspended entries made under that exporter's case number (i.e., at that exporter's rate) will be liquidated at the all-others rate if there is no rate for the intermediate company(ies) involved in the transaction.

Because we continue to find Concord International, Create Trading, and Wiresmith had no reviewable entries during the POR in the final results, any suspended entries of subject merchandise associated with these companies will be liquidated at the rate applicable to the unaffiliated producers, or the all-others rate if there is no rate for the unaffiliated producers.

For the companies which were not selected for individual examination listed in appendix II, we assigned an antidumping duty assessment rate equal to the weighted-average dumping margin determined for these companies in the final results of review (i.e., the margin for the sole cooperating mandatory respondent YSI).

Cash Deposit Requirements

The following cash deposit requirements will be in effect for all shipments of the subject merchandise entered, or withdrawn from warehouse, for consumption on or after the publication date of the final results of this administrative review, as provided by section 751(a)(2)(C) of the Act: (1) the cash deposit rate for YSI, Shang Jeng, World Kun, and the companies listed in appendix II will be equal to the appropriate dumping margin established in the final results of this administrative review; (2) for previously reviewed or investigated companies not covered in this review, the cash deposit rate will continue to be the company-specific rate published for the most recently-completed segment of this proceeding in which the company was reviewed; (3) if the exporter is not a firm covered in this review, a prior completed review, or the less-than-fair value (LTFV) investigation, but the producer is, then the cash deposit rate will be the company-specific rate established for the most recently-completed segment of this proceeding for the producer of subject merchandise; and (4) the cash deposit rate for all other producers and exporters will continue to be 2.16 percent, the all-others rate established in the LTFV investigation, as amended.¹² These cash deposit requirements, when imposed, shall remain in effect until further notice.

¹² See Certain Steel Nails from Taiwan: Notice of Court Decision Not in Harmony With Final Determination in Less Than Fair Value Investigation and Notice of Amended Final Determination, 82 FR 55090 (November 20, 2017).

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these final results of administrative review in accordance with sections 751(a)(1) and 777(i) of the Act, and 19 CFR 351.221(b)(5).

Dated: January 26, 2024.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Whether To Include San Shing Fastech Corporation's (San Shing) Financial Data in the Calculation of Profit and Indirect Selling Expenses (ISE) for Constructed Value (CV)

Comment 2: Whether Commerce Should Find YSI and Its Toller Affiliated and Refer Potential Duty Evasion to U.S. Customs and Border Protection (CBP)

Comment 3: Whether Commerce Should Continue To Apply Adverse Facts Available (AFA) to Shang Jeng Nail Co., Ltd. (Shang Jeng) and World Kun Company Limited (World Kun)

VI. Recommendation

Appendix II

List of Companies Under Review Not Selected for Individual Examination

1. A-Jax Enterprises Limited

2. A-Jax International Company Limited

3. A-Stainless International Company Limited

4. Advanced Global Sourcing Limited

5. Aimreach Enterprises Company Limited

6. Alisios International Corporation

7. Allwin Architectural Hardware Inc.

8. A.N. Cooke Manufacturing Co., Pty., Limited

9. Asia Engineered Components

10. Asia Link Industrial Corporation

11. Asia Smarten Way Corp. (Taiwan)

12. Autolink International Company Limited

13. BCR Inc.

14. Bestwell International Corporation

15. Boss Precision Works Co., Ltd.

16. Budstech CI Limited

17. Bulls Technology Company Limited

18. Canatex Industrial Company Limited

19. Cata Company Limited

20. Cenluxmetals Company Limited

21. Chang Bin Industrial Co., Ltd.

22. Channg Chin Industry Corporation

23. Charng Yu Industrial Company

24. Chen Nan Iron Wire Co., Ltd.

25. Chen Yu-Lan

26. Chia Da Fastener Company Limited

27. Chiang Shin Fasteners Industries Ltd.

28. Chin Tai Sing Precision Manufactory Co., Ltd.

29. Chun Yu Works & Company Limited

30. Cross International Co., Ltd.

31. Da Wing Industry Company Limited

32. Dar Yu Enterprise Co., Ltd.

33. Eagre International Trade Co., Ltd.

34. Ever-Top Hardware Corporation

35. Excel Components Manufacturing Co., Ltd.

36. Fastguard Fastening Systems Inc.

37. Fastnet Corporation

38. Fujian Xinhong Mech. & Elec. Co., Ltd.

39. Funtec International Co., Ltd.

40. Fuzhou Royal Floor Co., Ltd.

41. FWU Kuang Enterprise Co., Ltd.

42. GoFast Company Limited

43. H-H Fasteners Company

44. H-Locker Components Inc.

45. Hau Kawang Enterprise Co., Ltd.

46. Hecny Group

47. Hi-Sharp Industrial Corp., Ltd.

48. Hom Wei Enterprise Corporation

49. HWA Hsing Screw Industry Co., Ltd.

50. Hwaguo Industrial Fasteners Co., Ltd.

51. Hy-Mart Fastener Co., Ltd.

52. Hyup Sung Indonesia

53. In Precision Link Co., Ltd.

54. Intai Technology Corporation

55. JCH Hardware Company Inc.

56. Jet Crown International Co., Ltd.

57. Ji Li Deng Fasteners Co., Ltd.

58. Jinhai Hardware Co., Ltd.

59. Jinn Her Enterprise Limited

60. Jockey Ben Metal Enterprise Co., Ltd.

61. Kan Good Enterprise Co., Ltd.

62. Katsuhana Fasteners Corporation

63. Kay Guay Enterprises Co., Ltd.

64. Key Use Industrial Works Co., Ltd.

65. KOT Components Co., Ltd.

66. K. Ticho Industries Co., Ltd.

67. K Win Fasteners Inc.

68. Kuan Hsin Screw Industry Co., Ltd.

69. Liang Ying Fasteners Industry Co., Ltd.

70. Long Chan Enterprise Co., Ltd.

71. Lu Chu Shin Yee Works Co., Ltd.

72. Mechanical Hardwares Co.

73. Midas Union Co., Ltd.

74. Min Hwei Enterprise Co., Ltd.

75. Ming Cheng Precision Co., Ltd.

76. Ming Zhan Industrial Co., Ltd.

77. ML Global Ltd.

78. Newfast Co., Ltd.

79. Noah Enterprise Co., Ltd.

80. Nytaps Taiwan Corporation

81. Pao Shen Enterprises Co., Ltd.

82. Par Excellence Industrial Co., Ltd.

83. Pengteh Industrial Co., Ltd.

84. Pneumax Corp.

85. Printech T Electronics Corporation

86. Pro-an International Co., Ltd.

87. Pronto Great China Corp.

88. Professional Fasteners Development Co., Ltd.

89. P.S.M. Fasteners (Asia) Limited

90. Qi Ding Enterprise Co., Ltd.

91. Right Source Co., Ltd.

92. Rodex Fasteners Corp.

93. Rong Chang Metal Co., Ltd.

94. San Shing Fastech Corporation

95. SBSCQ Taiwan Limited

96. Shanxi Pioneer Hardware Industrial Co., Ltd.

97. Somax Enterprise Co., Ltd.

98. Spec Products Corporation

99. Star World Product and Trading Co., Ltd.

100. Sumeeko Industries Co., Ltd.

101. Sunshine Spring Co., Ltd.

102. Suntec Industries Co., Ltd.

103. Supreme Fasteners Corp.

104. Szu I Industries Co., Ltd.

105. Tag Fasteners Sdn. Bhd.

106. Taifas Corporation

107. Taiwan Geer-Tai Works Co., Ltd.

108. Taiwan Quality Fastener Co., Ltd.

109. Team Builder Enterprise Limited

110. Techno Associates Taiwan Co., Ltd.

111. Techup Development Co., Ltd.

112. TG Co., Ltd.

113. Tianjin Jinchi Metal Products Co. Ltd.

114. Topps Wang International Ltd.

115. Ume-Pride International Inc.

116. Unistrong Industrial Co., Ltd.

117. United Nail Products Co. Ltd.

118. Vanguard International Co., Ltd.

119. Wa Tai Industrial Co., Ltd.

120. Win Fastener Corporation

121. WTA International Co., Ltd.

122. Wumax Industry Co., Ltd.

123. Wyser International Corporation

124. Yeun Chang Hardware Tool Company Limited

125. Yng Tran Enterprise Company Limited

126. Yoh Chang Enterprise Company Limited

127. Yow Chern Company

128. Yumark Enterprises Corporation

129. Yu Tai World Co., Ltd.

130. Zenith Good Enterprise Corporation

[FR Doc. 2024-02003 Filed 1-31-24; 8:45 am]

BILLING CODE 3510-DS-P